DEPARTMENT OF THE INTERIOR

Bureau of Reclamation

Northwest Area Water Supply Project, North Dakota

AGENCY: Bureau of Reclamation, Interior.

ACTION: Notice of intent to prepare a supplemental environmental impact statement.

SUMMARY: The Bureau of Reclamation (Reclamation) is commencing work under the National Environmental Policy Act of 1969 (NEPA) on a Supplemental Environmental Impact Statement (EIS) for the Northwest Area Water Supply Project (NAWS Project), a Federal reclamation project, located in North Dakota. A Final EIS and Record of Decision (ROD) for the NAWS Project were previously completed in December 2008 and January 2009, respectively. The Final EIS and ROD were challenged in U.S. District Court. A subsequent court order found the Final EIS to be insufficient in two areas. Therefore a supplement is being prepared to address those areas in more detail and any others that interested parties or the public may identify warranting additional analysis, as well as to re-examine and update, to the extent necessary, prior NEPA analysis that has been completed in connection with the NAWS Project to date. This notice is being published to inform the public about the preparation of the Supplemental EIS and to initiate a formal scoping period for obtaining public comment. The scoping period for the supplement will conclude 60 days following publication of this notice. Public meetings are scheduled as part of the scoping process.

Reclamation invites all interested parties to submit written comments or suggestions during the scoping period related to significant issues, environmental impacts, and reasonable alternatives to the proposed action. Reclamation will provide a separate project information document that describes the Supplemental EIS actions and how the public can become involved and participate. The project information document will provide details relative to the Supplemental EIS and is intended to assist the public in providing comments during the scoping period.

DATES: Public scoping meetings will be held during September 2010. See the Supplemental Information section for dates and locations of these meetings. Individuals who want to receive the additional project information document should contact Reclamation within 15 days following publication of this notice. Written or e-mailed comments on the scope of issues and alternatives should be received by October 12, 2010. Comments received after that date will be considered to the extent practical.

ADDRESSES: Written comments should be submitted to: Bureau of Reclamation, Dakotas Area Office, Attention: Alicia Waters, P.O. Box 1017, Bismarck, ND 58502.

FOR FURTHER INFORMATION CONTACT: Alicia Waters, Northwest Area Water Supply Project EIS, Bureau of Reclamation, Dakotas Area Office, P.O. Box 1017, Bismarck, ND 58502; Telephone: (701) 221-1206; or facsimile (701) 250-4326. You may submit e-mail to NAWS_EIS@usbr.gov.

SUPPLEMENTARY INFORMATION:

Dates of Public Scoping Meetings

• September 13, 2010, 6:30 p.m.-8:30 p.m., Bottineau, ND.

• September 14, 2010, 6:30 p.m.-8:30 p.m., Minot, ND.

• September 15, 2010, 6:30 p.m.-8:30 p.m., New Town, ND.

• September 16, 2010, 6:30 p.m.-8:30 p.m., Bismarck, ND.

Locations of Public Scoping Meetings

• MSU-Bottineau, Nelson Science Center Room 125, 105 Simrall Boulevard, Bottineau, ND.

• Sleep Inn—Inn and Suites, North Convention Center, 2400 10th Street, NW., Minot, ND.

• 4 Bears Casino, Mandan Room, 202 Frontage Room, New Town, ND.

• Best Western Doublewood Inn, Congress Room, 1400 Interchange Avenue, Bismarck, ND.

The meeting facilities are physically accessible to people with disabilities. People needing special assistance to attend and/or participate in the public meetings should contact Patience Hurley at 701-221-1204 as soon as possible. To allow sufficient time to process special requests, please call no later than one week before the public meeting of interest.

Background

The Garrison Diversion Unit's Municipal, Rural and Industrial Water Supply (MR&I) program was authorized by the U.S. Congress on May 12, 1986, through the Garrison Diversion Unit Reformulation Act of 1986. This act authorized the appropriation of $200 million of Federal funds for the planning and construction of water supply facilities throughout North Dakota. The NAWS Project is being constructed under this authorization.

The NAWS Project is designed as a bulk water distribution system that will service local communities and rural water systems in 10 counties in northwestern North Dakota including the community of Minot. The NAWS Project would convey water from Lake Sakakawea, in the Missouri River Basin in North Dakota, through a buried pipeline to Minot, surrounding communities and rural water systems in the Hudson Bay Basin. The Project would include a treatment plant in the Missouri River Basin to disinfect the water prior to it being delivered through the pipeline into the Hudson Bay Basin. An Environmental Assessment (EA) and Finding of No Significant Impact (FONSI) were completed for the Project in 2001.

Construction on the project began in April 2002. In October 2002, the Province of Manitoba, Canada, filed a legal challenge in U.S. District Court in Washington, DC to compel the Department of the Interior to complete an EIS on the project. A court order dated February 3, 2005, remanded the case to Reclamation for completion of additional environmental analysis, but allowed construction to proceed on project features that would not preclude a future decision on water treatment to reduce the risk of transferring invasive species.

Project construction has continued as allowed by the court. Between 2002 and 2010, the entire 45 miles of main transmission pipeline for NAWS, from Lake Sakakawea to Minot, was completed along with several segments of the distribution system. The City of Minot is temporarily serving water to several communities and rural water systems with water from the city's ground water wells. This interim water supply is provided by the city through temporary water service contracts which expire in 2018 or sooner depending on the reliability of the water source.

Recently completed features of the NAWS Project include a high service pump station and 2 million gallon storage reservoir in Minot. Most of the other segments of the distribution system are being designed or constructed. The court also allowed the State of North Dakota to initiate design work on upgrades to the existing Minot water treatment plant which are necessary for the city to continue delivering the interim water supply to adjacent communities.

In March 2006, Reclamation initiated an EIS focused on different water treatment methods for the water from Lake Sakakawea. The analysis focused on environmental impacts that could occur due to pipeline leaks and failure of the water treatment systems. The Draft EIS was published on December 21, 2007 and the Final EIS on December 5, 2008 (documents available electronically at http://www.usbr.gov/gp/dkao/). Reclamation signed a Record of Decision (ROD) on January 15, 2009, selecting an alternative using chlorination and ultraviolet radiation to disinfect the water before it is delivered into the Hudson Bay Basin. Final treatment to drinking water standards would occur at the existing water treatment plant in Minot.

In February 2009, the Department of Justice notified the court that Reclamation had completed the Final EIS and ROD. Shortly thereafter, the Province of Manitoba filed a supplemental complaint contending the Final EIS was insufficient. Additionally, the State of Missouri filed a complaint against the Department of the Interior and the U.S. Army Corps of Engineers in the same District Court in Washington, DC. The State of Missouri alleged that Reclamation's Final EIS was insufficient and that the Corps of Engineers failed to complete a separate National Environmental Policy Act assessment for the NAWS Project. The court combined the Missouri suit with the Manitoba suit. On March 5, 2010, the court issued an order in favor of the Province of Manitoba and the State of Missouri. The case was remanded to Reclamation and the injunction imposed by the April 15, 2005, order remains in effect.

The Court found the EIS inadequately examined: (1) Cumulative impacts of water withdrawals on Lake Sakakawea and the Missouri River, and (2) consequences of transferring potentially invasive species into the Hudson Bay Basin.

Purpose of the Proposed Action

The purpose of the proposed action is to provide a reliable source of high quality treated water to northwestern North Dakota for MR&I uses.

Need for the Proposed Action

The NAWS Project is needed: (1) To provide high quality treated water because northwestern North Dakota has experienced water supply problems for many years, (2) to replace poor quality groundwater sources presently used for MR&I purposes, and (3) because the surface water supplies within the service area are insufficient from both a quality and quantity standpoint. This Supplemental EIS is needed to comply with the Court order of March 5, 2010, and fully satisfy NEPA. Reclamation will conduct additional analyses to address the Court's order regarding the consequences of transferring potentially invasive species into the Hudson Bay Basin and the cumulative impacts of water withdrawals on Lake Sakakawea and the Missouri River, in addition to re-examining and updating all prior NEPA analysis that has been completed in connection with the NAWS Project to date.

The Proposed Action

Reclamation proposes to complete construction of the NAWS Project, including construction of a biota water treatment plant, to treat the source water from Lake Sakakawea before it is transported into the Hudson Bay drainage. As part of this proposed action, Reclamation would implement construction methods and operational measures to further reduce the risk of invasive species transfer that may occur as a result of an interruption in the treatment process and breach in the buried pipeline to the Minot water treatment plant.

Scope of the Proposed Action

The geographic scope of the Supplemental EIS will include areas and resources within the Missouri River Basin and Hudson Bay Basin that may be affected by water diversion and delivery for NAWS project purposes. This includes, but is not necessarily limited to: (1) The sites of NAWS Project features and facilities; (2) lands and waters that receive NAWS Project MR&I water supplies, including downstream areas in the Hudson Bay Basin; and (3) the Missouri River from Lake Sakakawea to its confluence with the Mississippi River.

The Supplemental EIS will review, and update, if necessary, the prior Environmental Assessment and Environmental Impact Statement. This Supplemental EIS will further evaluate the consequences of transferring potentially invasive species to the Hudson Bay Basin and the cumulative effects of water withdrawals from the Missouri River. Additional issues or concerns identified in the scoping process will be considered by Reclamation and evaluated in the Supplemental EIS as appropriate. Identification of known methods and technologies that can be used to assess potential consequences to resources will be considered as well.

Summary

Reclamation is preparing a Supplemental EIS to address the relevant issues related to final construction and operation of the NAWS Project. We are seeking comment from the public on the development of reasonable alternatives to the proposed action, information relative to new water treatment processes that could be considered, methods for evaluating the risks and potential consequences which may be associated with the proposed action, and concerns relative to the environmental effects that should be described in the supplement. We also seek identification of any issues in prior NEPA analyses for the NAWS Project to date that should be updated, and the identification of any other issues that should be addressed by the Supplemental EIS.

Public Disclosure Statement

Before including your name, address, telephone number, e-mail address, or other personal identifying information in your comment, you should be aware that your entire comment—including your personal identifying information—may be made publicly available at any time. While you can ask us in your comment to withhold your personal identifying information from public review, we cannot guarantee that we will be able to do so.

John F. Soucy,
Assistant Regional Director, Great Plains Region, Bureau of Reclamation.

[FR Doc. 2010-19922 Filed 8-12-10; 8:45 am]

BILLING CODE 4310-MN-P